DEPARTMENT OF HEALTH AND HUMAN SERVICES

Centers for Disease Control and Prevention

[60 Day-09-0134]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road, NE., MS-D74, Atlanta, Georgia 30333; comments may also be sent by e-mail to omb@cdc.gov.

Comments are invited on (a) whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

Foreign Quarantine Regulations (42 CFR part 71), (OMB Control No. 0920-0134)—Extension—National Center for Preparedness, Detection, and Control of Infectious Diseases (NCPDCID), Centers for Disease Control and Prevention (CDC).

Background and Brief Description

Section 301 of the Public Health Service Act (PHSA) (42 U.S.C. 264) authorizes the Secretary of Health and Human Services (HHS) to make and enforce regulations necessary to prevent the introduction, transmission, or spread of communicable diseases into the United States. Legislation and existing regulations governing the foreign quarantine activities (42 CFR part 71) authorize quarantine officers and other personnel to inspect and undertake necessary control measures with respect to conveyances, persons, and shipments of animals and etiologic agents entering the United States from foreign ports in order to protect the public's health.

Under the foreign quarantine regulations, the master of a ship or captain of an airplane entering he United States from a foreign port is required by public health law to report certain illnesses among passengers (42 CFR 71.21 (b)). In addition to the aforementioned list of illnesses which must be reported to CDC, the master of a ship or captain of an airplane must also report (1) hemorrhagic Fever Syndrome (persistent fever accompanied by abnormal bleeding from any site); or (2) acute respiratory syndrome (severe cough or severe respiratory disease of less than 3 weeks in duration); or (3) acute onset of fever and severe headache, accompanied by stiff neck or change in level of consciousness. CDC has the authority to collect personnel health information to protect the health of the public under the authority of section 301 of the Public Health Service Act (42 U.S.C.).

This information collection request also includes the Passenger Locator Information Form. The Passenger Locator Information Form is used to collect reliable information that assists quarantine officers in locating, in a timely manner, those passengers and crew who are exposed to communicable diseases of public health significance while traveling on a conveyance. HHS delegates authority to CDC to conduct quarantine control measures. Currently, with the exception of rodent inspections and the cruise ship sanitation program, inspections are performed only on those vessels and aircraft which report illness prior to arrival or when illness is discovered upon arrival. Other inspection agencies assist quarantine officers in public health screening of persons, pets, and other importations of public health significance and make referrals to the Public Health Service when indicated. These practices and procedures assure protection against the introduction and spread of communicable diseases into the United States with a minimum of recordkeeping and reporting as well as a minimum of interference with trade and travel.

Respondents include airline pilots, ships' captains, importers, and travelers. The nature of the quarantine response dictates which forms are completed by whom.

There are no costs to respondents except for their time to complete the forms.

Estimate of Annualized Burden Hours
Citation | Number of respondents | Number of responses per respondent | Average burden per respondent (in hours) | Total burden
71.21 Radio Report of death/illness | 9,500 | 1 | 2/60 | 317
71.33(c) Report by persons in isolation or surveillance | 11 | 1 | 3/60 | 1
71.35 Report of death/illness in port | 5 | 1 | 30/60 | 3
Locator Form used in an outbreak of public health significance | 2,700,000 | 1 | 5/60 | 225,000
Locator Form used for reporting of an ill passenger(s) | 800 | 1 | 5/60 | 67
71.51(b)(3) Admission of cats/dogs; death/illness | 5 | 1 | 3/60 | 1
71.51(d) Dogs/cats: Certification of Confinement, Vaccination | 1,200 | 1 | 15/60 | 300
71.52(d) Turtle Importation Permits | 10 | 1 | 30/60 | 5
71.53(d) Importer Registration—Nonhuman Primates | 40 | 1 | 10/60 | 7
71.53(e) Recordkeeping | 30 | 4 | 30/60 | 60
Total |  |  |  | 225,761

Dated: March 3, 2009.
Maryam I. Daneshvar,
Reports Clearance Officer, Centers for Disease Control and Prevention.

[FR Doc. E9-5116 Filed 3-10-09; 8:45 am]

BILLING CODE 4163-18-P